DEPARTMENT OF JUSTICE

[OMB Number 1124-0006]

National Security Division; Agency Information Collection Activities: Proposed Collection; Comments Requested

ACTION: 60-Day Notice of Information Collection Under Review: Exhibit A to Registration Statement (Foreign Agents).

The Department of Justice (DOJ), National Security Division (NSD), will be submitting the following information collection request to the Office of Management and Budget (OMB) for review and approval in accordance with the Paperwork Reduction Act of 1995. The proposed information collection is published to obtain comments from the public and affected agencies. Comments are encouraged and will be accepted for “sixty days” until October 1, 2010. This process is conducted in accordance with 5 CFR 1320.10.

If you have comments especially on the estimated public burden or associated response time, suggestions, or need a copy of the proposed information collection instrument with instructions or additional information, please write to U.S. Department of Justice, 10th & Constitution Avenue, NW., National Security Division, Counterespionage Section/Registration Unit, Bond Building—Room 9300, Washington, DC 20530. If you need a copy of the collection instrument with instructions, or have additional information, please contact the Registration Unit at 202-514-1216.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of currently approved information collection.

(2) Title of the Form/Collection: Exhibit A to Registration Statement (Foreign Agents).

(3) The agency form number, if any, and the applicable component of the Department of Justice sponsoring the collection: Form Number: NSD-3. National Security Division, U.S. Department of Justice. Pursuant to Section 212 of Public Law 110-81, the Honest Leadership and Open Government Act of 2007 (HLOGA), the FARA registration forms recently submitted to OMB for 3 year renewal approvals, contain fillable-fileable, and E-signature capabilities, and the E-Filing system under development and near completion will permit registrants to file their registration forms electronically to the FARA Registration Unit, 24 hours a day, seven days a week. FARA E-Filing will be accessed via the FARA public website located at http://www.fara.gov, and will provide instructions to assist registrants in completing, signing and submitting the forms, as well as instructions on how to electronically pay the required registration fees via online credit or debit card payments.

(4) Affected public who will be asked or required to respond, as well as a brief abstract: Primary: Business or other for-profit, not-for-profit institutions, and individuals or households. The form is used to register foreign agents as required by the Foreign Agents Registration Act of 1938, as amended, 22 U.S.C. 611, et seq., must set forth the information required to be disclosed concerning each foreign principal, and must be utilized within 10 days of date contract is made or when initial activity occurs, whichever is first.

(5) An estimate of the total number of respondents and the amount of time estimated for an average response: The total estimated number of responses is 164 at approximately .49 hours (29 minutes) per response.

(6) An estimate of the total public burden (in hours) associated with the collection: There are an estimated 80 annual total burden hours associated with this information collection.

If additional information is required contact: Lynn Bryant, Department Clearance Officer, Policy and Planning Staff, Justice Management Division, Department of Justice, Two Constitution Square, Suite 2E-502, 145 N Street, NE., Washington, DC 20530.

Dated: July 28, 2010.
Lynn Bryant
Department Clearance Officer, U.S. Department of Justice.

[FR Doc. 2010-18868 Filed 7-30-10; 8:45 am]

BILLING CODE 4410-PF-P